DEPARTMENT OF TRANSPORTATION

Federal Aviation Administration

14 CFR Part 39

[Docket No. FAA-2005-21624; Directorate Identifier 2005-NE-17-AD; Amendment 39-16439; AD 2010-20-05]

RIN 2120-AA64

Airworthiness Directives; Turboméca S.A. ARRIEL 2B Turboshaft Engines

AGENCY: Federal Aviation Administration (FAA), Department of Transportation (DOT).

ACTION: Final rule; request for comments.

SUMMARY: The FAA is superseding an existing airworthiness directive (AD) for Turboméca S.A. ARRIEL 2B turboshaft engines. That AD currently requires initial and repetitive inspections, cleaning, lubrication, and checks for proper operation of the hydro-mechanical unit (HMU) acceleration controller axle except on engines that incorporate modification TU 132. That AD also provides an optional terminating action for the repetitive inspections. This AD requires the same actions, but expands the applicability to include all engines that do not incorporate modification TU 149. This AD results from reports of engines with modification TU 132 incorporated experiencing stuck controller axles in the metering valve body. We are issuing this AD to prevent loss of control of engine fuel flow in manual control mode or mixed control mode, which can lead to engine overspeed, and in-flight engine shutdown resulting in a forced autorotation landing or accident.

DATES: Effective October 12, 2010. The Director of the Federal Register approved the incorporation by reference of a certain publication listed in the AD as of October 12, 2010.

We must receive any comments on this AD by October 27, 2010.

ADDRESSES: Use one of the following addresses to comment on this AD.

• Federal eRulemaking Portal: Go to http://www.regulations.gov and follow the instructions for sending your comments electronically.

• Mail: Docket Management Facility, U.S. Department of Transportation, 1200 New Jersey Avenue SE., West Building Ground Floor, Room W12-140, Washington, DC 20590-0001.

• Hand Delivery: Deliver to Mail address above between 9 a.m. and 5 p.m., Monday through Friday, except Federal holidays.

• Fax: (202) 493-2251.

Contact Turboméca, 40220 Tarnos, France; telephone 33 05 59 74 40 00; fax 33 05 59 74 45 15, for the service information identified in this AD.

FOR FURTHER INFORMATION CONTACT: Kevin Dickert, Aerospace Engineer, Engine Certification Office, FAA, Engine and Propeller Directorate, 12 New England Executive Park, Burlington, MA 01803; e-mail: kevin.dickert@faa.gov; telephone (781) 238-7117; fax (781) 238-7199.

SUPPLEMENTARY INFORMATION: On April 9, 2007, the FAA issued AD 2005-13-25R1, Amendment 39-15028 (72 FR 19110, April 17, 2007). That AD requires initial and repetitive inspections, cleaning, lubrication, and checks for proper operation of the HMU acceleration controller axle on engines that incorporate modification TU 62A, unless the engine incorporates modification TU 132. That AD was the result of several reports of the HMU acceleration controller axle sticking. The stuck acceleration controller axle resulted in engine overspeed and commanded and uncommanded in-flight engine shutdowns. That condition, if not corrected, could result in loss of control of engine fuel flow in manual control mode or mixed control mode, which can lead to engine overspeed, and in-flight engine shutdown resulting in a forced autorotation landing or accident.

Actions Since AD 2005-13-25R1 Was Issued

Since we issued AD 2005-13-25R1, the European Aviation Safety Authority (EASA), which is the airworthiness agent for the Member States of the European Union, has informed us that the manufacturer, Turboméca S.A., has reported additional occurrences of stuck controller axles in the metering valve body. Some of these occurrences occurred on engines that incorporated modification TU 132. Turboméca S.A. introduced modification TU 149 to eliminate the cause of the unsafe condition on the ARRIEL 2B turboshaft engines. This AD requires inspecting and lubricating the P3 cover and HMU acceleration control axle on HMUs that are not modified to TU 149. It also approves incorporating modification TU 149 to eliminate the cause of the unsafe condition and the repetitive inspections required by this AD. We are issuing this AD to prevent loss of control of engine fuel flow in the manual or mixed control modes, which can lead to engine overspeed, and in-flight engine shutdown resulting in a forced autorotation landing or accident.

Relevant Service Information

Turboméca has issued Mandatory Service Bulletin A292 73 2814, Version D, dated October 16, 2009, that describes procedures for inspecting, lubricating, and checking for proper operation of the HMU acceleration controller axle. EASA classified this service bulletin as mandatory and issued AD 2009-0246, dated November 10, 2009, in order to assure the airworthiness of these ARRIEL 2B turboshaft engines in the European Union.

Bilateral Airworthiness Agreement

This engine model is manufactured in France, and is type certificated for operation in the United States under the provisions of section 21.29 of the Federal Aviation Regulations (14 CFR 21.29) and the applicable bilateral airworthiness agreement. Under that agreement, EASA has kept us informed of the situation described above. We have examined EASA's findings, reviewed all available information, and determined that AD action is necessary for products of this type design that are certificated for operation in the United States.

FAA's Determination and Requirements of This AD

The unsafe condition described previously is likely to exist or develop on other Turboméca S.A. ARRIEL 2B turboshaft engines of the same type design. We are issuing this AD to prevent loss of control of engine fuel flow in the manual control mode or mixed control mode, which can lead to engine overspeed, and in-flight engine shutdown resulting in a forced autorotation landing or accident. This AD requires initial and repetitive inspections, cleaning, lubrication, and checks for proper operation of the HMU acceleration controller axle. You must use the service information described previously to perform the actions required by this AD.

FAA's Determination of the Effective Date

Since an unsafe condition exists that requires the immediate adoption of this AD, we have found that notice and opportunity for public comment before issuing this AD are impracticable, and that good cause exists for making this amendment effective in less than 30 days.

Comments Invited

This AD is a final rule that involves requirements affecting flight safety and was not preceded by notice and an opportunity for public comment; however, we invite you to send us any written relevant data, views, or arguments regarding this AD. Send your comments to an address listed under ADDRESSES. Include “AD Docket No. FAA-2005-21624; Directorate Identifier 2005-NE-17-AD” in the subject line of your comments. We specifically invite comments on the overall regulatory, economic, environmental, and energy aspects of the rule that might suggest a need to modify it.

We will post all comments we receive, without change, to http://www.regulations.gov, including any personal information you provide. We will also post a report summarizing each substantive verbal contact with FAA personnel concerning this AD. Using the search function of the Web site, anyone can find and read the comments in any of our dockets, including the name of the individual who sent the comment (or signed the comment on behalf of an association, business, labor union, etc.). You may review the DOT's complete Privacy Act Statement in the Federal Register published on April 11, 2000 (65 FR 19477-78).

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is the same as the Mail address provided in the ADDRESSES section. Comments will be available in the AD docket shortly after receipt.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national Government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Incorporation by reference, Safety.

Adoption of the Amendment

Under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Amendment 39-15028 (72 FR 19110, April 17, 2007), and by adding a new airworthiness directive, Amendment 39-16439, to read as follows:

2010-20-05 Turboméca S.A.: Amendment 39-16439. Docket No. FAA-2005-21624; Directorate Identifier 2005-NE-17-AD.

Effective Date

(a) This airworthiness directive (AD) becomes effective October 12, 2010.

Affected ADs

(b) This AD supersedes AD 2005-13-25R1, Amendment 39-15028.

Applicability

(c) This AD applies to Turboméca S.A. ARRIEL 2B turboshaft engines that do not have Modification TU 149 incorporated. These engines are installed on, but not limited to, Eurocopter AS350B3 helicopters.

Unsafe Condition

(d) This AD results from reports of engines with modification TU 132 incorporated experiencing stuck acceleration control axles in the hydromechanical unit (HMU) metering valve body. We are issuing this AD to prevent loss of control of engine fuel flow in manual control mode or mixed control mode, which can lead to engine overspeed, and in-flight engine shutdown resulting in a forced autorotation landing or accident.

Compliance

(e) You are responsible for having the actions required by this AD performed within the compliance times specified unless the actions have already been done.

HMUs Without Modification TU 149

(f) Within 20 operating hours of the effective date of this AD, check the fuel metering system and perform maintenance procedures in accordance with Paragraph 2 of Turboméca MSB A292 73 2814, Version D, dated October 16, 2009.

(g) Repeat the maintenance procedures of paragraph (f) of this AD within every 210 operating hours.

Optional Terminating Action

(h) Modifying the HMU to Modification TU 149 terminates the repetitive inspection requirements specified in paragraph (g) of this AD. You can find guidance on modifying the HMU to Modification TU 149 in Turboméca Service Bulletin 292 73 2149, Version C, dated August 10, 2009.

Previous Credit

(i) Maintenance performed prior to the effective date of this AD using Turboméca MSB A292 73 2814, Version C, dated December 19, 2006, or an earlier version of this MSB, satisfies the maintenance requirements of paragraph (f) of this AD.

Alternative Methods of Compliance

(j) The Manager, Engine Certification Office, has the authority to approve alternative methods of compliance for this AD if requested using the procedures found in 14 CFR 39.19.

Related Information

(k) EASA airworthiness directive 2009-00246, dated November 10, 2009, also addresses the subject of this AD.

(l) Contact Kevin Dickert, Aerospace Engineer, Engine Certification Office, FAA, Engine and Propeller Directorate, 12 New England Executive Park, Burlington, MA 01803; e-mail: kevin.dickert@faa.gov; telephone (781) 238-7117, fax (781) 238-7199, for more information about this AD.

Material Incorporated by Reference

(m) You must use Turboméca Mandatory Service Bulletin (MSB) A292 73 2814, Version D, dated October 16, 2009, to perform the actions required by this AD. The Director of the Federal Register approved the incorporation by reference of MSB A292 73 2814, Version D, dated October 16, 2009, in accordance with 5 U.S.C. 552(a) and 1 CFR part 51. Contact Turboméca S.A., 40220 Tarnos, France; telephone 33 05 59 74 40 00, fax 33 05 59 74 45 15, for a copy of this service information. You may review copies at the FAA, New England Region, Office of the Regional Counsel, 12 New England Executive Park, Burlington, MA; or at the National Archives and Records Administration (NARA). For information on the availability of this material at NARA, call 202-741-6030, or go to: http://www.archives.gov/federal_register/code_of_federal_regulations/ibr_locations.html.

Issued in Burlington, Massachusetts, on September 15, 2010.
Thomas A. Boudreau,
Acting Manager, Engine and Propeller Directorate, Aircraft Certification Service.

[FR Doc. 2010-23581 Filed 9-24-10; 8:45 am]

BILLING CODE 4910-13-P